DEPARTMENT OF COMMERCE

Bureau of Industry and Security

Action Affecting Export Privileges; Amy Farrow

In the Matter of: Amy Farrow, 1493 Sanbrook Ct., Bethlehem, PA 18015, Respondent

Order Relating to Amy Farrow

The Bureau of Industry and Security, U.S. Department of Commerce (“BIS”), has notified Amy Farrow, in her individual capacity and as sole proprietor of The Wholesale Discount Store of Bethlehem, Pennsylvania (“Farrow”), of its intention to initiate an administrative proceeding against Farrow pursuant to Section 766.3 of the Export Administration Regulations (the “Regulations”) ¹ and Section 13(c) of the Export Administration Act of 1979, as amended (the “Act”),² through the issuance of a Proposed Charging Letter to Farrow that alleged that she committed 116 violations of the Regulations. Specifically, the charges are:

¹ The Regulations are currently codified in the Code of Federal Regulations at 15 CFR Parts 730-774 (2010). The charged violations occurred in 2008. The Regulations governing the violations at issue are found in the 2008 version of the Code of Federal Regulations (15 CFR Parts 730-774 (2008)). The 2010 Regulations set forth the procedures that apply to this matter.

² 50 U.S.C. app. sections 2401-2420 (2000). Since August 21, 2001, the Act has been in lapse and the President, through Executive Order 13,222 of August 17, 2001 (3 CFR, 2001 Comp. 783 (2002)), as extended most recently by the Notice of August 17, 2010 (75 FR 50,681 (Aug. 16, 2010)), has continued the Regulations in effect under the International Emergency Economic Powers Act (50 U.S.C. 1701 et seq.).

Charges 1-116 15 CFR 764.2(a): Exporting Stun Guns Without a License

On 116 occasions between on or about January 1, 2008 and on or about July 20, 2008, Farrow engaged in conduct prohibited by the Regulations by exporting items subject to the Regulations to various destinations without the required Department of Commerce authorization. Specifically, Farrow exported 254 stun guns, items subject to the Regulations, classified under Export Control Classification Number 0A985, and controlled for export to these destinations for crime control reasons, without the export licenses required by Section 742.7 of the Regulations. In exporting these items without a license, Farrow committed 116 violations of Section 764.2(a) of the Regulations.

Whereas, BIS and Farrow have entered into a Settlement Agreement pursuant to Section 766.18(a) of the Regulations, whereby they agreed to settle this matter in accordance with the terms and conditions set forth therein; and

Whereas, I have approved of the terms of such Settlement Agreement;

It is therefore ordered:

First, for a period of two years from the date of this Order, Amy Farrow, 1493 Sanbrook Ct., Bethlehem, PA 18015, her representatives, assigns or agents (hereinafter collectively referred to as “Denied Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, after notice and opportunity for comment as provided in Section 766.23 of the Regulations, any person, firm, corporation, or business organization related to Farrow by affiliation, ownership, control, or position of responsibility in the conduct of trade or related services may also be made subject to the provisions of the Order.

Fourth, that this Order does not prohibit any export, reexport, or other transaction subject to the Regulations where the only items involved that are subject to the Regulations are the foreign-produced direct product of U.S.-origin technology.

Fifth, that, as authorized by Section 766.18(c) of the Regulations, the second year of the two year denial period set forth above shall be suspended and shall thereafter be waived, provided that during the first year of the denial period and during the period of suspension, Farrow has commited no violation of the Act or any regulation, order or license issued thereunder.

Sixth, that the Proposed Charging Letter, the Settlement Agreement, and this Order shall be made available to the public.

This Order, which constitutes the final agency action in this matter, is effective immediately.

Issued this 28th day of February, 2011.
David W. Mills,
Assistant Secretary of Commerce for Export Enforcement.

[FR Doc. 2011-5447 Filed 3-9-11; 8:45 am]

BILLING CODE 3510-DT-P